COMMITTEE FOR PURCHASE FROM PEOPLE WHO ARE BLIND OR SEVERELY DISABLED

Procurement List Proposed Deletion

AGENCY: Committee for Purchase from People Who Are Blind or Severely Disabled.

ACTION: Proposed Deletion from the Procurement List.

SUMMARY: The Committee is proposing to delete a service from the Procurement List previously provided by the nonprofit agency employing persons who are blind or have other severe disabilities.

Comments Must be Received on or Before: 9/7/2015.

ADDRESSES: Committee for Purchase From People Who Are Blind or Severely Disabled, 1401 S. Clark Street, Suite 715, Arlington, Virginia 22202-4149.

For Further Information or to Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed action.

Deletion

The following service is proposed for deletion from the Procurement List:

Service:

Service Type: Rebuilding Auto Components Service.

Mandatory For: Unknown.

Mandatory Source of Supply: Federation Employment and Guidance Service, Inc., New York, NY (deleted).

Contracting Activity: General Services Administration, FPDS Agency Coordinator, Washington, DC.

Barry S. Lineback,
Director, Business Operations.

[FR Doc. 2015-19439 Filed 8-6-15; 8:45 am]

BILLING CODE 6353-01-P